DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

2002 Survey of Mental Health Organizations, General Hospital Mental Health Services, and Managed Care Organizations (SMHO)—(OMB No 0930-0119, Revision)—The 2002 SMHO, to be conducted by SAMHSA's Center for Mental Health Services (CMHS), will be conducted in two phases. There will be only minor changes to the forms used in the 2000 SMHO. Phase I will be a brief two-three page inventory consisting of four forms: (1) A specialty mental health organization form; (2) A general hospital or Veterans Affairs Medical Center with either separate mental health services or integrated mental health services forms; (3) A community residential organization form; and (4) A managed behavioral healthcare organization form. This short inventory will be sent to all known organizations to define the universe of valid mental health organizations to be sampled in Phase II. The inventory will collect basic information regarding the name and address of the organizations, their type and ownership, size measures (e.g., number of staff), and the kinds of services provided.

Phase II will sample approximately 2,000 mental health organizations and utilize a more detailed survey instrument. Although the Sample Survey form will be more comprehensive, it will be very similar to surveys and inventories fielded in 2000 and earlier. The organizational data to be collected by the Sample Survey form include university affiliation, client/patient census by basic demographics, revenues, expenditures, and staffing.

The resulting data base will be used to provide national estimates and will be the basis of the National Directory of Mental Health Services. In addition, data derived from the survey will be published by CMHS in Data Highlights, in Mental Health, United States, and in professional journals such as Psychiatric Services and the American Journal of Psychiatry. Mental Health, United States is used by the general public, state governments, the U.S. Congress, university researchers, and other health care professionals. The following table summarizes the burden for the survey.

Questionnaire | Number of respondents | Responses/respondent | Average hours/response | Total burden (Hrs.)
Phase I (Inventory)
Specialty Mental Health Organizations | 3,342 | 1 | 0.50 | 1,671
General Hospitals:
With Separate Psych. Units | 1,622 | 1 | 0.50 | 811
Without Separate Psych. Units | 3,514 | 1 | 0.50 | 1,757
VA Medical Centers | 145 | 1 | 0.50 | 73
Community Residential Organizations | 945 | 1 | 0.50 | 473
Managed Care Organizations | 990 | 1 | 0.50 | 495
Phase II (Sample Survey)
Specialty Mental Health Organizations | 1,308 | 1 | 3.50 | 4,578
General Hospitals and VA Hospitals with Separate Mental Health Services | 692 | 1 | 3.50 | 2,422
Total | 10,558 |  |  | 12,280
3-year Average | 3,519 |  |  | 4,093

Written comments and recommendations concerning the proposed information collection should be sent within 30 days of this notice to: Lauren Wittenberg, Human Resources and Housing Branch, Office of Management and Budget, New Executive Office Building, Room 10235, Washington, DC 20503.

Dated: June 4, 2002.
Richard Kopanda,
Executive Officer, SAMHSA.

[FR Doc. 02-14583 Filed 6-10-02; 8:45 am]

BILLING CODE 4162-20-P